DEPARTMENT OF THE INTERIOR

Fish and Wildlife Service

Notice of Availability of the Draft Comprehensive Conservation Plan and Environmental Impact Statement for Rocky Flats National Wildlife Refuge, Commerce City, CO

AGENCY: Fish and Wildlife Service, Interior.

ACTION: Notice of availability.

SUMMARY: The U.S. Fish and Wildlife Service (Service) announces that the Draft Comprehensive Conservation Plan and Environmental Impact Statement (CCP/EIS) for the Rocky Flats National Wildlife Refuge (Refuge) is available for public review and comment. This Draft CCP/EIS was prepared pursuant to the National Wildlife Refuge System Administration Act, as amended, and the National Environmental Policy Act (NEPA). The Draft CCP/EIS describes the Service's proposal for management of the Refuge for 15 years, beginning at Refuge establishment, which is anticipated to occur sometime between 2006 and 2008. Four alternatives for management of the Refuge are considered in the CCP/EIS.

DATES: To ensure consideration, we must receive your comments on or before April 5, 2004.

ADDRESSES: To provide written comments or to obtain a copy of the Draft CCP/EIS, please write to Laurie Shannon, Planning Team Leader, Rocky Flats National Wildlife Refuge, Rocky Mountain Arsenal—Building 121, Commerce City, Colorado, 80222. Comments and requests can be sent electronically to http://rockyflats@fws.gov. Additionally, copies of the Draft CCP/EIS may be downloaded from the project website: http://rockyflats.fws.gov. The Draft CCP/EIS will be available for reading at the following main branch libraries: Arvada Public Library in Arvada, Boulder Public Library in Boulder, Daniels Library in Lakewood, Golden Public Library in Golden, Westminster Public Library in Westminster, Front Range Community College in Westminster, Louisville Public Library in Louisville, Thornton Public Library in Thornton, and Mamie Dowd Eisenhower Library in Broomfield, all Colorado.

The Service will hold four public hearings on the CCP/EIS and encourages you to attend and provide your comments at one of the meetings. The time and place of the meetings will be provided in a Planning Update mailed to agencies, organizations and individuals on the mailing list, in a flyer posted in area libraries, in notices in area newspapers, and on the project Web site.

FOR FURTHER INFORMATION CONTACT: Laurie Shannon, Planning Team Leader at the above address or at (303) 289-0980.

SUPPLEMENTARY INFORMATION: The 6,240-acre Rocky Flats National Wildlife Refuge site is in northern Jefferson County and southern Boulder County, Colorado. The Rocky Flats site was used as a nuclear weapons production facility until 1992, when the mission of Rocky Flats changed to environmental cleanup and closure. The majority of the site has remained undisturbed for over 50 years and provides habitat for many wildlife species, including the federally threatened Preble's meadow jumping mouse, and several rare plant communities. Under the Rocky Flats National Wildlife Refuge Act of 2001, most of the site will become a National Wildlife Refuge once cleanup and closure has been completed. The Refuge will likely be established sometime between 2006 and 2008.

The National Wildlife System Administration Act of 1966, as amended by the National Wildlife Refuge Improvement Act of 1997, requires the Service to develop a CCP for the Refuge. The purpose in developing a CCP is to provide refuge managers with a 15-year strategy for achieving refuge purposes and contributing toward the mission of the National Wildlife Refuge System, consistent with sound principles of fish and wildlife science, conservation, legal mandates, and Service policies. In addition to outlining broad management direction on conserving wildlife and their habitats, the CCP identifies wildlife-dependent recreational opportunities available to the public, including opportunities for hunting, wildlife observation and photography, and environmental education and interpretation.

Significant issues addressed in the Draft CCP/EIS include: vegetation management, wildlife management, public use, cultural resources, property, infrastructure, and refuge operations. The Service developed four alternatives for management of the Refuge: Alternative A—No Action; Alternative B—Wildlife, Habitat, and Public Use; Alternative C—Ecological Restoration; and Alternative D—Public Use. All four alternatives outline specific management objectives and strategies related to wildlife and habitat management; public use, education, and interpretation; safety; open and effective communication; working with others; and refuge operations.

Alternative B, the Service's Proposed Action, emphasizes wildlife and habitat conservation with a moderate amount of wildlife-dependent public use. Refuge-wide habitat conservation would include management of native plant communities, weeds, restoration tools, removal and revegetation of unused roads and stream crossings, management of deer and elk populations, prairie dogs, and protection of Preble's meadow jumping mouse habitat. Visitor use facilities would include about 16 miles of trails, a visitor contact station staffed seasonally, trailheads with parking, and developed overlooks. Most of the trails would use existing roads and public access would be by foot, bicycle, horse, or car. A limited public hunting program would be developed.

After the review and comment period for this Draft CCP/EIS, all comments will be analyzed and considered by the Service. A Final CCP/EIS will then be prepared and published and will include substantive comments received and the Service's responses to those comments. Changes made to the proposed action will also be identified in the Final CCP/EIS. A Record of Decision and final CCP will then be published.

All comments received from individuals on environmental impact statements become part of the official public record. Requests for such comments will be handled in accordance with the Freedom of Information Act, the Council on Environmental Quality's NEPA regulations (40 CFR 1506.6(f) and other Service and Departmental policies and procedures.

The Service believes it is important to give reviewers notice of several court rulings related to public participation in the environmental review process. Reviewers should provide the Service with their comments during the review period of the Draft CCP/EIS. This enables the Service to analyze and respond to the comments at one time and to use information acquired in the preparation of the final environmental impact statement, thus avoiding undue delay in the decision making process. Reviewers have an obligation to structure their participation in the National Environmental Policy Act process so that it is meaningful and alerts the agency to the reviewers' position and contentions. Environmental objections that could have been raised at the draft stage may be waived if they are not raised until after completion of the final environmental impact statement. Comments on the Draft CCP/EIS should be specific and should address the adequacy of the plan, the impact statement, and the merits of the alternatives discussed (40 CFR 1503.3).

In the Final EIS, the Service will respond to all substantive comments. Comments are considered substantive if they:

• Question, with reasonable basis, the accuracy of the information in the document;

• Question, with reasonable basis, the adequacy of the environmental analysis;

• Present reasonable alternatives other than those presented in the EIS;

• Cause changes or revisions in the CCP; or

• Provide new or additional information relevant to the analysis.

Dated: January 14, 2004.
John A. Blankenship,
Regional Director—Region 6, U.S. Fish and Wildlife Service, Lakewood, Colorado.

[FR Doc. 04-3584 Filed 2-18-04; 8:45 am]

BILLING CODE 4310-55-P